FEDERAL MARITIME COMMISSION

Notice of Agreements Filed

The Commission hereby gives notice of the filing of the following agreements under the Shipping Act of 1984. Interested parties may submit comments on any agreements to the Secretary, Federal Maritime Commission, Washington, DC 20573, within twelve days of the date this notice appears in the Federal Register. A copy of each agreement is available through the Commission's website (www.fmc.gov) or by contacting the Office of Agreements at (202) 523-5793 or tradeanalysis@fmc.gov.

Agreement No.: 011075-078.

Title: West Coast of South America Discussion Agreement.

Parties: CMA CGM S.A.; King Ocean Service Limited, Inc.; and Seaboard Marine Ltd.

Filing Party: Wayne R. Rohde, Esq.; Cozen O'Connor; 1200 19th Street NW, Washington, DC 20036.

Synopsis: The amendment adds Great White Fleet Corp. as a party to the agreement. Great White Fleet Corp. and Great White Fleet Liner Service Ltd. will act as a single party to the agreement. The Parties request expedited review.

Agreement No.: 011426-064.

Title: Central America Discussion Agreement.

Parties: Crowley Latin America Services, LLC; Dole Ocean Cargo Express, Great White Fleet Corp.; Great White Fleet Liner Services, Ltd.; King Ocean Services Limited, Inc.; and Seaboard Marine Ltd.

Filing Party: Wayne R. Rohde, Esq.; Cozen O'Connor; 1200 19th Street NW, Washington, DC 20036.

Synopsis: The amendment deletes Hamburg Sud as a party to the Agreement.

Agreement No.: 012212-003.

Title: NYK/Grimaldi Cooperative Working Agreement.

Parties: Nippon Yusen Kaisha, and Grimaldi Deep Sea S.p.A. and Grimaldi Euromed S.p.A. (acting as a single party).

Filing Party: H. Kristen Chung, Corporate Counsel; NYK Line (North America) Inc.; 300 Lighting Way, 5th Floor; Secaucus, NJ 07094.

Synopsis: The amendment expands the Agreement's geographic scope to include all coasts of the United States and ports in North Europe and the Mediterranean.

By Order of the Federal Maritime Commission.
Dated: December 15, 2017.
Rachel E. Dickon,
Assistant Secretary.

[FR Doc. 2017-27390 Filed 12-19-17; 8:45 am]

BILLING CODE 6731-AA-P